OFFICE OF THE UNITED STATES TRADE REPRESENTATIVE

Notice of Meeting of the Industry Trade Advisory Committee on Small and Minority Business (ITAC-11)

AGENCY: Office of the United States Trade Representative.

ACTION: Notice of an opened meeting.

SUMMARY: The Industry Trade Advisory Committee on Small and Minority Business (ITAC-11) will hold a meeting on Monday, August 9, 2010, from 11 a.m. to 4 p.m. The meeting will be opened to the public from 11 a.m. to 4 p.m.

DATES: The meeting is scheduled for August 9, 2010, unless otherwise notified.

ADDRESSES: The meeting will be held at the Big Sky Resort, located at 1 Lone Mountain Trail, Big Sky, Montana 59716.

FOR FURTHER INFORMATION CONTACT: Laura Hellstern, DFO for ITAC-11 at (202) 482-3222, Department of Commerce, 14th Street and Constitution Avenue, NW., Washington, DC 20230.

SUPPLEMENTARY INFORMATION: The Agenda topic to be discussed is:

—Overview of the Congressional Trade Agenda

—Impact of Upcoming Legislation on Trade Competitiveness

—Free Trade Agreements pending before Congress (Colombia, Panama and South Korea)

—Generalized System of Preferences

—Mexican Trucking/Retaliation Issue

—U.S.-China Trade Issues, including China Currency, Export Subsidies, Indigenous Innovation, IPR, and other issues.

—Trade Promotion

—Export Finance

Myesha T. Ward,
Acting Assistant U.S. Trade Representative for Intergovernmental Affairs and Public Engagement.

[FR Doc. 2010-17222 Filed 7-14-10; 8:45 am]

BILLING CODE 3190-W9-P